DEPARTMENT OF COMMERCE

Census Bureau

Agency Information Collection Activities; Submission to the Office of Management and Budget (OMB) for Review and Approval; Comment Request; Spatial, Address, and Imagery Data Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on Friday, July 29, 2021 during a 60-day comment period. This notice allows for an additional 30 days for public comments.

Agency: U.S. Census Bureau, Commerce.

Title: Spatial, Address, and Imagery Data Program.

OMB Control Number: 0607-1008.

Form Number(s): None.

Type of Request: Regular submission, Request for an Extension of a Currently Approved Collection.

Number of Respondents: 1,500 (500/year).

Average Hours per Response: 2.5 hours.

Estimated Total Burden Hours: 3,750 (1,250/year). Please note, this figure was miscalculated in the 60-day Federal Register Notice. It has been corrected in this notice.

Needs and Uses: The Spatial, Address, and Imagery Data (SAID) Program is a voluntary geographic partnership programs that collects data to update and maintain the U.S. Census Bureau's geographic database of addresses, streets, and imagery known as the Master Address File/Topologically Integrated Geocoding and Referencing (MAF/TIGER) System. The MAF/TIGER System is vital for the Census Bureau's data collection, processing, tabulation, and dissemination programs for the United States and Puerto Rico.

The geographic framework within the MAF/TIGER System enables the Census Bureau field personnel to navigate to the appropriate locations for data collection. It enables the Census Bureau to define geographic boundaries, including census blocks, and accurately link demographic data from surveys and the decennial census to census blocks, locations, and areas, such as counties, cities, and school districts for data tabulation and dissemination.

The SAID Program supports the Census Bureau's ongoing demographic surveys and 2030 Census planning efforts by continuing to improve address coverage, collect and update street centerlines, and enhance the overall quality and integrity of the MAF/TIGER System after major Census update programs have concluded. The SAID Program provides the Census Bureau with a continuous method to obtain current, accurate, and complete address, street centerline, and imagery data.

Since its inception, the SAID Program has allowed the Census Bureau to update addresses and street centerlines across the country, with participation covering nearly 89 percent of the housing units in the nation. Moving forward, the SAID Program will continue to acquire addresses, street centerlines, and imagery in areas targeted for housing unit growth or change to continue updating and improving the MAF/TIGER System.

The SAID Program follows the process below:

• The Census Bureau invites partners in targeted areas each fiscal year, including tribal, state, county, and local governments; federal agencies; and other authoritative organizations.

• Partners are asked to provide a current address list with associated location points and attributes, a street centerline file, and/or imagery data for their jurisdiction that is no more than two years old.

• Partners upload the requested data files using the Secure Web Incoming Module (SWIM), deliver large imagery datasets on hard drives, or the Census Bureau acquires the files/data though direct download.

• The Census Bureau validates, then updates the MAF/TIGER System with the address and street centerline data provided by partners and uses the provided imagery for quality control and change detection.

• The Census Bureau uses these updated addresses, streets, and imagery to support Census Bureau field operations, decennial census operations, ongoing demographic survey response collection, and data tabulation.

• The Census Bureau provides partners feedback regarding the data they supplied, including an appropriate thank you letter and a detailed, non-Title 13 address report and/or TIGER/Line shapefile.

Affected Public: Tribal, state, county, and local governments and organizations as well as other federal agencies.

Frequency: Annual.

Respondent's Obligation: Voluntary.

Legal Authority: Title 13 U.S.C. 16, 141, and 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1008.

Sheleen Dumas,
Department PRA Clearance Officer, Office of the Chief Information Officer, Commerce Department.

[FR Doc. 2021-25010 Filed 11-15-21; 8:45 am]

BILLING CODE 3510-07-P